DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Alaska Region Scale and Catch Weighing Requirements.

Form Number(s): None.

OMB Approval Number: 0648-0330.

Type of Request: Regular submission.

Burden Hours: 6,904.

Number of Respondents: 103.

Average Hours per Response: 6 minutes for at-sea inspection request; 45 minutes for record of daily scale tests; 45 minutes for printed output of at-sea scale weight; 45 minutes for printed output of State of Alaska scale weight; 63 hours for scale type evaluation; 6 minutes for at-sea scale approval report/sticker; 6 minutes for application to inspect scales on behalf of NMFS; 2 hours for observer sampling station inspection request; 0 hours for certified bins for volumetric estimates of catch weight; 5 minutes for inspection request for inshore catch monitoring and control plan (CMCP); 40 hours for inshore processors CMCP; 8 hours for CMCP addendum; 5 minutes for notification of observer offloading schedule for Bering Sea and Aleutian Island pollock; 2 minutes for prior notice to observers of scale tests; and 40 hours for crab catch monitoring plan.

Needs and Uses: The National Marine Fisheries Service (NMFS) manages the commercial groundfish harvest off Alaska using an annual total allowable catch for each species based on “round” weight, or the weight of the fish prior to processing. However, much of the fish harvested off Alaska is harvested by catcher/processors that process the catch at-sea. NMFS estimates the total weight of fish harvested by those trawl gear catcher/processors by requiring the vessel to weigh all or part of their catch on a motion-compensated scale. This collection describes the steps involved and the procedure for: evaluating scales prior to NMFS approval for use, inspecting and testing approved scales onboard vessels, recordkeeping and audit trails, coordinating with onboard and onshore observers, and providing NMFS with a catch monitoring plan for crab, offshore groundfish, and inshore groundfish.

Affected Public: Business or other for-profit organizations; individuals or households.

Frequency: Daily for time period.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: October 26, 2005.
Gwellnar Banks,
Management Analyst, Office of the Chief Information Officer.

[FR Doc. 05-21684 Filed 10-31-05; 8:45 am]

BILLING CODE 3510-22-P